NATIONAL AERONAUTICS AND SPACE ADMINISTRATION

[Notice: (15-003)]

Notice of Intent To Grant Partially Exclusive Term License

AGENCY: National Aeronautics and Space Administration.

ACTION: Notice of intent to grant partially exclusive term license.

SUMMARY: This notice is issued in accordance with 35 U.S.C. 209(e) and 37 CFR 404.7(a)(1)(i). NASA hereby gives notice of its intent to grant a partially exclusive term license in the United States to practice the inventions described and claimed in U.S. Provisional Patent Application Serial No. US 61/771,149 Superelastic Ternary Ordered Intermetallic Compounds, LEW-19029-1; U.S. Patent Serial No. US 8,182,741 Ball Bearings Comprising Nickel-Titanium and Methods of Manufacture Thereof, LEW-18476-1; and U.S. Patent Serial No. US 8,377,373 Compositions Comprising Nickel-Titanium and Methods of Manufacture Thereof and Articles Comprising the Same, LEW-18476-2, to Puris, LLC, having its principal place of business in Bruceton Mills, West Virginia. The fields of use may be limited to additive manufacturing. The patent rights in these inventions as applicable have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license. Objections submitted in response to this notice will not be made available to the public for inspection and, to the extent permitted by law, will not be released under the Freedom of Information Act, 5 U.S.C. 552.

ADDRESSES: Objections relating to the prospective license may be submitted to Intellectual Property Counsel, Office of Chief Counsel, NASA Glenn Research Center, 21000 Brookpark Rd., MS 21-14, Cleveland, OH 44135. Phone (216) 433-5754. Facsimile (216) 433-6790.

FOR FURTHER INFORMATION CONTACT: Kaprice Harris, Intellectual Property Counsel, Office of Chief Counsel, NASA Glenn Research Center, 21000 Brookpark Rd., MS 21-14, Cleveland, OH 44135. Phone (216) 433-5754. Facsimile (216) 433-6790. Information about other NASA inventions available for licensing can be found online at https://technology.grc.nasa.gov.

Sumara M. Thompson-King,
General Counsel.

[FR Doc. 2015-01116 Filed 1-22-15; 8:45 am]

BILLING CODE 7510-13-P